FEDERAL COMMUNICATIONS COMMISSION

[DA 03-3533]

Request for Durational Billing

AGENCY: Federal Communications Commission.

ACTION: Notice; withdrawal of petition for reconsideration.

SUMMARY: This document provides notice of the proposed withdrawal of a April 21, 1999, petition for reconsideration of the Commission's determination that the cost of imposing technology on payphone service providers in order to implement six second billing increments was prohibitive. The company which filed the reconsideration petition, PocketScience, Inc., was dissolved by its parent company more than two years ago. Thus, there is no existing entity to sponsor the reconsideration petition.

DATES: This petition will be dismissed without prejudice effective January 12, 2004, unless the Wireline Competition Bureau receives an opposition to the withdrawal prior to that date.

ADDRESSES: Oppositions to the withdrawal notice should be mailed to the Commission's Secretary through the Commission's contractor, Natek, Inc., at 236 Massachusetts Avenue, NE., Suite 110, Washington, DC 20002.

FOR FURTHER INFORMATION CONTACT: Jon Stover, Wireline Competition Bureau, Pricing Policy Division, (202) 418-0390.

SUPPLEMENTARY INFORMATION: On January 28, 1999, the Commission determined in the Third Report and Order, And Order on Reconsideration of the Second Report and Order, 64 FR 13701 (March 22, 1999) that duration-based billing methodology would result in added expense, delay, and confusion. On April 21, 1999, PocketScience, Inc. filed a petition for reconsideration of this portion of the Third Report and Order. Subsequently, petitioner, PocketScience, Inc. was acquired by PocketMail Inc. in May, 2001. On October 21, 2003, PocketMail, Inc. stated in an e-mail to FCC staff that it had formally dissolved PocketScience Inc. and that it no longer had any interest in pursuing the April 21, 1999, petition. Accordingly, unless there is opposition to the proposed withdrawal, PocketScience's April 21, 1999, petition will be dismissed without prejudice. 47 CFR 1.748. Therefore, this proceeding will be terminated effective January 12, 2004, unless the Wireline Competition Bureau receives an opposition to the withdrawal before that date.

Parties filing oppositions to the withdrawal of this petition must file an original and four copies of each filing. The filings should reference the DA number of this public notice, DA 03-3533. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission. Parties are also requested to send a courtesy copy of their oppositions to Jon Stover, Pricing Policy Division, Wireline Competition Bureau, Federal Communications Commission. Courtesy copies may also be sent via e-mail to Jon.Stover@fcc.gov.

Authority: 47 U.S.C. 152, 153, 154, 155, 303, 307, 308, 309, 315, 317; 44 FR 18501, 67 FR 13223, 47 CFR 0.291, 1.749

Federal Communications Commission.
Tamara Preiss,
Chief, Pricing Policy Division.

[FR Doc. 03-30657 Filed 12-10-03; 8:45 am]

BILLING CODE 6712-01-P